DEPARTMENT OF JUSTICE

Notice of Lodging of Consent Decree Under the Clean Water Act

Notice is hereby given that on May 12, 2004, a proposed Consent Decree in United States, et al. v. Wal-Mart Stores, Inc., Case No. 04-301 was lodged with the United States District Court for the District of Delaware.

In this action the United States sought civil penalties and injunctive relief arising from Wal-Mart's failure to comply with the regulations and permits governing the discharge of storm water at twenty-four construction sites in nine states. The Consent Decree provides that Wal-Mart will undertake a comprehensive management and oversight system to ensure that contractors building Wal-Mart stores, Sam's Club stores, and Wal-Mart Supercenters will comply with all applicable permits and regulations. In addition, the Consent Decree requires payment of a civil penalty of $3.1 million and performance of a supplemental environmental project comprised of the purchase and protection of wetlands or similar areas.

The Department of Justice will receive for a period of thirty (30) days from the date of this publication comments relating to the Consent Decree. Comments should be addressed to the Assistant Attorney General, Environment and Natural Resources Division, P.O. Box 7611, U.S. Department of Justice, Washington, DC 20044-7611, and should refer to United States, et al. v. Wal-Mart Stores, Inc. D.J. Ref. 90-5-1-1-4510/3.

The Consent Decree may be examined at the Office of the United States Attorney, District of Delaware, P.O. Box 2046, Wilmington, Delaware 19899 and at U.S. EPA Region 8, 999 18th Street, Denver, Colorado 80202. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $14.25 (25 cents per page reproduction cost) payable to the U.S. Treasury.

Karen Dworkin,
Assistant Chief, Environmental Enforcement Section, Environment and Natural Resources Division.

[FR Doc. 04-11954 Filed 5-26-04; 8:45 am]

BILLING CODE 4410-15-M